ENVIRONMENTAL PROTECTION AGENCY

[FRL-8695-5]

Notice of Availability of the Draft Demonstration of Alternative Asbestos Control Method Demolition for Two Asbestos-Containing Buildings and Expert Peer Review Meeting

AGENCY: Environmental Protection Agency (EPA).

ACTION: Notice of document availability and external peer review meeting.

SUMMARY: The U.S. Environmental Protection Agency is announcing the availability for review and comment of two draft reports titled, Evaluation of the Alternative Asbestos Control Method at Site Two (AACM2) for Demolition of Asbestos-Containing Buildings, and Evaluation of the Alternative Asbestos Control Method at Site Three (AACM3) for Demolition of Asbestos-Containing Buildings. These reports were prepared by EPA's Office of Research and Development (ORD) and are available through docket ID number EPA-HQ-ORD-2008-0523 located at http://www.regulations.gov and through http://www.epa.gov/region6/6xa/asbestos.

EPA is also announcing that in the month of August or September an EPA contractor will convene a panel of experts and will organize and conduct an independent expert external peer review meeting of the two reports. The dates and location of the peer review meeting will be provided in a separate Federal Register Notice. The public will be invited to register to attend the peer review meeting as observers and also will be able to give oral or provide written comments at the meeting. The expert panel will review the scientific and technical aspects of the draft documents and consider public comments received prior to the meeting in the official public docket for this activity under docket ID number EPA-HQ-ORD-2008-0523.

The public release of these draft documents is solely for the purpose of seeking public comment and external peer review. The draft reports do not represent and should not be construed to represent any final EPA by policy, viewpoint, or determination.

DATES: The 30-day public comment period on the two draft documents begins July 22, 2008, and ends August 21, 2008. All comments should be in writing and must be received by EPA by August 21, 2008. The dates and location of the peer review meeting will be announced at a later date in a subsequent Federal Register Notice.

ADDRESSES: You may submit comments on these documents to Docket ID No. EPA-HQ-ORD-2008-0523 by one of the following methods:

• http://www.regulations.gov: Follow the online instructions for submitting comments.

• E-mail: ORD.Docket@epa.gov.

• Mail: ORD Docket, Environmental Protection Agency, Mail Code: 28221T, 1200 Pennsylvania Avenue, NW., Washington, DC 20460.

• Hand Delivery: EPA Docket Center (EPA/DC), Room B102, EPA West Building, 1301 Constitution Avenue, NW., Washington, DC 20460, Attention Docket ID No. EPA-HQ-ORD-2008-0523. Deliveries are only accepted from 8:30 a.m. to 4:30 p.m., Monday through Friday, excluding legal holidays. Special arrangements should be made for deliveries of boxed information. If you provide comments by mail or hand delivery, please submit three copies of the comments. For attachments, provide an index, number pages consecutively with the comments, and submit an unbound original and three copies.

Instructions: Direct your comments to Docket ID No. EPA-HQ-ORD-2008-0523. EPA's policy is that all comments received will be included in the public docket without change and may be made available online at http://www.regulations.gov, including any personal information provided, unless the comment includes information claimed to be Confidential Business Information (CBI) or other information whose disclosure is restricted by statute. Do not submit information that you consider to be CBI or otherwise protected through http://www.regulations.gov or e-mail. The http://www.regulations.gov Web site is an “anonymous access” system, which means EPA will not know your identity or contact information unless you provide it in the body of your comment. If you send an e-mail comment directly to EPA without going through http://www.regulations.gov, your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the docket are listed in the http://www.regulations.gov/index. Although listed in the index, some information is not publicly available, e.g., CBI or other information whose disclosure is restricted by statute. Certain other material, such as copyrighted material, will be publicly available only in hard copy. Publicly available docket materials are available either electronically in http://www.regulations.gov or in hard copy at the ORD Docket, EPA/DC, EPA West, Room B102, 1301 Constitution Avenue, NW., Washington, DC. The Public Reading Room is open from 8:30 a.m. to 4:30 p.m., Monday through Friday, excluding legal holidays. The telephone number for the Public Reading Room is (202) 566-1744, and the telephone number for the ORD Docket is (202) 566-1752.

FOR FURTHER INFORMATION CONTACT: For questions regarding the draft documents, please contact Roger Wilmoth, Office of Research and Development, Telephone (513) 569-7509, fax number (513) 569-7471, Wilmoth.Roger@epa.gov; U.S. Environmental Protection Agency, Mail Code 445, 26 West Martin Luther King Drive, Cincinnati, OH 45268.

SUPPLEMENTARY INFORMATION: EPA is submitting the draft reports for independent, external scientific and technical peer review. The draft reports provide the documentation and scientific evaluation of the environmental effectiveness of the draft AACM protocol as a possible alternative technology in controlling multimedia asbestos emissions during demolition of asbestos-containing buildings, as required by the existing Asbestos National Emission Standard for Hazardous Air Pollutants (NESHAP). The draft AACM demolition protocol was used on two separate buildings. One building contained NESHAP-regulated quantities of asbestos-containing transite siding and the second building contained NESHAP-regulated quantities of asbestos-containing popcorn ceiling and wall surfacing material. In addition to assessing the environmental effectiveness of the draft AACM technology, these two draft reports assess the costs and time requirements of the application of the AACM protocol in these situations, as well as document lessons learned in each instance.

Public comments received in the docket will be shared with the external peer review panel for their consideration. Although EPA is under no obligation to do so, EPA may consider comments received after the close of the comment period. The public release of this draft document is solely for the purpose of seeking public comment and peer review, and does not represent and should not be construed to represent any EPA policy, viewpoint, or determination.

Dated: July 15, 2008.
Fred S. Hauchman,
Acting Director, Office of Science Policy, Office of Research and Development.

[FR Doc. E8-16745 Filed 7-21-08; 8:45 am]

BILLING CODE 6560-50-P